ENVIRONMENTAL PROTECTION AGENCY

[FRL-8313-7]

Clean Air Act Operating Permit Program; Petition To Object to Title V Permit for BP Exploration (Alaska) Inc.'s Gathering Center 1, Prudhoe Bay, AK

AGENCY: Environmental Protection Agency (EPA).

ACTION: Notice of final order on petition to object to state operating permit.

SUMMARY: Pursuant to Clean Air Act (CAA) section 505(b)(2) and 40 CFR 70.8(d), the EPA Administrator signed an order dated April 20, 2007, denying a petition to object to a state operating permit issued by the Alaska Department of Environmental Conservation (ADEC) to BP Exploration (Alaska) Inc.'s (BPX) Gathering Center 1 (Revision 1 to GC1 permit), Prudhoe Bay, Alaska. This order constitutes final action on the petition filed by Public Employees for Environmental Responsibility (PEER) on behalf of Bill MacClarence on April 14, 2004, requesting that EPA object to the issuance of Revision 1 to the GC1 permit. Pursuant to section 505(b)(2) of the CAA, any person may seek judicial review in the United States Court of Appeals for the appropriate circuit within 60 days of this notice under section 307 of the CAA.

ADDRESSES: Copies of the final order, the petition, and all pertinent information relating thereto are on file at the following location: Environmental Protection Agency, Region 10, Office of Air, Waste, and Toxics (AWT-107), 1200 Sixth Avenue, Seattle, Washington 98101. The final order is also available electronically at the following Web site: http://www.epa.gov/region07/programs/artd/air/title5/petitiondb/petitiondb.htm.

FOR FURTHER INFORMATION CONTACT: Natasha Greaves, Office of Air, Waste and Toxics, EPA Region 10, telephone (206) 553-7079, e-mail greaves.natasha@epa.gov. Interested parties may also contact the Alaska Department of Environmental Conservation, Division of Air Quality, 555 Cordova Street, Anchorage, Alaska 99501-2617.

SUPPLEMENTARY INFORMATION: The Clean Air Act affords EPA a 45-day period to review and object to, as appropriate, operating permits proposed by state permitting authorities. Section 505(b)(2) of the CAA authorizes any person to petition the EPA Administrator within 60 days after the expiration of this review period to object to a state operating permit if EPA has not done so. Petitions must be based only on objections to the permit that were raised with reasonable specificity during the public comment period provided by the state, unless the petitioner demonstrates that it was impracticable to raise these issues during the comment period or that the grounds for the objection or other issue arose after the comment period.

On April 19, 2004, EPA received a petition from PEER on behalf of Bill MacClarence requesting that EPA object to the issuance of Revision 1 to the GC1 permit on the grounds that: (1) Revision 1 to the GC1 Permit violates Title V of the CAA because it does not explain the departure from ADEC's March 7, 2003 draft permit and because the provisions of Prevention of Significant Deterioration, National Emission Standards for Hazardous Air Pollutants, and New Source Performance Standards are all based on the aggregated impact of air emissions and this permit did not aggregate all facilities within the Prudhoe Bay Unit (PBU); (2) the pollution consequences of this violation are significant becasue elevated levels of nitrogen oxide on the North Slope of Alaska present a serious health problem for workers and native communities in the region and have been created by not aggregating facilities within the PBU; and (3) ADEC and EPA failed to exercise proper regulatory oversight in this matter by issuing the final permit with no public notice or discussion. The order explains the reasons behind EPA's decision to deny PEER's petition for objection on all grounds.

Dated: May 1, 2007.
Elin D. Miller,
Regional Administrator, Region 10.

[FR Doc. 07-2334 Filed 5-10-07; 8:45 am]

BILLING CODE 6560-50-M